DEPARTMENT OF VETERANS AFFAIRS

Advisory Committee on Women Veterans; Notice of Meeting

The Department of Veterans Affairs (VA) gives notice under Public Law 92-463 (Federal Advisory Committee act) that the Advisory Committee on Women Veterans will meet October 31-November 2, 2006, from 8:30 a.m. to 4 p.m. each day. The meeting will be held in the G.V. “Sonny” Montgomery Conference Center, room 230, VA Central Office, 810 Vermont Avenue, NW., Washington, DC. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On October 31, the agenda will include briefings and updates presented by the Veterans Health Administration (VHA), highlighting VA research and studies related to women's health issues, a briefing from VHA's Women Veterans Health Program Director, legislative issues related to veterans, presentation of Certificates of Appointment to six new Committee members, and upcoming initiatives of the Center for Women Veterans.

On November 1, the agenda will include briefings and updates presented on VA's polytrauma program, VHA's Office of Seamless Transition, VA's HealthierUS Veterans Initiative, VA Homeless Programs and Initiatives, and an ethics briefing for Committee members.

On November 2, the committee will be briefed and updated on issues in the Veterans Benefits Administration, from the VA Chief of Staff, on VA mental health programs, and from the 2005 Defense Advisory Committee on Women in the Service (DACOWITS) Report.

Any member of the public wishing to attend should contact Ms. Desiree Long, at the Department of Veterans Affairs, Center for Women Veterans (00W), 810 Vermont Avenue, NW., Washington, DC 20420. Ms. Long may be contacted either by phone at (202) 273-6193, fax at (202) 273-7092, or e-mail at 00W@mail.va.gov. Interested persons may attend, appear before, or file statements with the Committee. Written statements must be filed before the meeting, or within 10 days after the meeting.

Dated: October 5, 2006.
By Direction of the Secretary.
E. Philip Riggin,
Committee Management Officer.

[FR Doc. 06-8647 Filed 10-12-06; 8:45 am]

BILLING CODE 8320-01-M